DEPARTMENT OF LABOR

Employment and Training Administration

Announcement of Public Webinar on the Changes to the Labor Certification Process for the Temporary Agricultural Employment of H-2A Aliens in the United States

AGENCY: Employment and Training Administration, Department of Labor.

ACTION: Notice of webinar.

SUMMARY: On February 12, 2010, the Department of Labor (the Department or DOL) amended the H-2A regulations at 20 CFR part 655 governing the certification of temporary employment of nonimmigrant workers in temporary or seasonal agricultural employment. See Temporary Agricultural Employment of H-2A Aliens in the United States, Final Rule, 75 FR 6884, Feb. 12, 2010 (the Final Rule). The Department's Final Rule also amended the regulations at 29 CFR part 501 to provide for enhanced enforcement when employers fail to meet their obligations under the H-2A program. The Final Rule also made changes to the Application for Temporary Employment Certification, ETA Form 9142. All H-2A applications filed as of March 15, 2010, the effective date of the Final Rule, will be required to comply with the requirements set forth in the Final Rule.

The Department held three public briefings across the country to educate stakeholders, program users, and other interested members of the public on changes to the H-2A program made by the Final Rule and on applying for H-2A temporary labor certifications under the new regulations using the ETA Form 9142. The Department is issuing this notice to announce that it has scheduled a webinar briefing to educate stakeholders, program users, and other interested members of the public on applying for H-2A temporary labor certifications under the Final Rule, using the ETA Form 9142.

Time and Date: March 25, 2010, 10-11:30 a.m. Eastern Daylight time.

To Register: You must be a registered user of Workforce3One to register for the webinar. If you are not a user please go to http://www.workforce3one.org/view/5001007444778993193/info to register and to register for the webinar.

FOR FURTHER INFORMATION CONTACT: For further information, contact William L. Carlson, PhD, Administrator, Office of Foreign Labor Certification, Employment and Training Administration, 200 Constitution Avenue, NW., Room C-4312, Washington, DC 20210; Telephone: (202) 693-3010 (this is not a toll-free number). Please do not call this office to register as it cannot accept registrations.

SUPPLEMENTARY INFORMATION: The registration information should be used by any member of the public planning to participate in this webinar session.

Signed in Washington, DC, this 18th day of March 2010.
Jane Oates,
Assistant Secretary, Employment and Training Administration.

[FR Doc. 2010-6367 Filed 3-22-10; 8:45 am]

BILLING CODE 4510-FP-P